DEPARTMENT OF THE INTERIOR

Bureau of Land Management

[OR-958-1430-ET; HAG 03-0034; ORE-06585]

Public Land Order No. 7559; Partial Revocation of Public Land Order No. 2298; Oregon

AGENCY: Bureau of Land Management, Interior.

ACTION: Public land order.

SUMMARY: This order revokes Public Land Order No. 2298 insofar as it affects 44.15 acres of public land withdrawn for the Forest Service's Warner Canyon Recreation Area. The land is no longer needed for the purpose for which it was withdrawn and the revocation is needed to make the land available for exchange. This action will open the land to such forms of disposition as may by law be made of National Forest System lands.

EFFECTIVE DATE: April 17, 2003.

FOR FURTHER INFORMATION CONTACT: Charles R. Roy, BLM Oregon/ Washington State Office, PO Box 2965, Portland, Oregon 97208-2965, (503) 952-6189.

SUPPLEMENTARY INFORMATION: The remaining land withdrawn for the Warner Canyon Recreation Area has been conveyed out of Federal ownership.

Order

By virtue of the authority vested in the Secretary of the Interior by section 204 of the Federal Land Policy and Management Act of 1976, 43 U.S.C. 1714 (1994), it is ordered as follows:

1. Public Land Order No. 2298, which withdrew public lands for Forest Service administrative sites and recreation areas, is hereby revoked insofar as it affects the following described land:

Fremont National Forest

Willamette Meridian

Warner Canyon Recreation Area

T. 38 S., R. 21 E.,

Sec. 30, lots 8 and 10 (formerly part of lot 4).

The area described contains 44.15 acres in Lake County.

2. At 8:30 a.m. on April 17, 2003, the land described in Paragraph 1 will be opened to such forms of disposition as may by law be made of National Forest System lands, subject to valid existing rights, the provisions of existing withdrawals, other segregations of record, and the requirements of applicable law.

Dated: March 11, 2003.
Rebecca W. Watson,
Assistant Secretary—Land and Minerals Management.

[FR Doc. 03-9451 Filed 4-16-03; 8:45 am]

BILLING CODE 4370-33-P